DEPARTMENT OF AGRICULTURE

Natural Resources Conservation Service

Notice of Meeting

AGENCY: Department of Agriculture; Natural Resources Conservation Service, USDA.

ACTION: Notice of meetings.

SUMMARY: Notice is hereby given that the United States Department of Agriculture, Natural Resources Conservation Service (NRCS), will conduct six public forums whereby interested individuals can provide comments and ideas regarding the role, capacity, and capability of private sector vendors in providing technical services related to assisting animal feeding operation (AFO)/concentrated animal feeding operation (CAFO) owners and operators with the development and implementation of comprehensive nutrient management plans (CNMPs), or specific elements of CNMPs. The specific elements of a CNMP that private sector vendors may provide technical services for include:

• Manure and wastewater handling and storage

• Land treatment practices

• Nutrient management

• Record keeping

• Feed management

• Other manure and wastewater utilization activities (alternatives to land application)

The public is invited to attend. Speakers will be limited to 5 minutes and should respond to the questions below. Those who wish to speak at a forum may make arrangements in advance by calling the state contact listed or may sign up at the forum. All are encouraged to provide detailed written answers and comments to the following questions:

1. What do you believe the role of private sector vendors should be in providing technical services to AFO/CAFO owners and operators with the development and implementation of their CNMPs? Is there a distinction in this role with regard to regulated versus non-regulated AFOs?

2. What are the technical capabilities and capacities of private sector vendors in relation to the skills, knowledge, and experience needed to provide technical services associated with the development and/or implementation of CNMPs?

3. How do you see the capabilities and capacities of the private sector vendor community changing over the next few years? Over the next decade?

4. What is needed for a successful public/private partnership that will facilitate AFO/CAFO owners' and operators' development and/or implementation of CNMPs?

Written comments will be accepted at the forums and by mail or facsimile. Written comments must be postmarked or faxed by August 15, 2001 and addressed to: Thomas Christensen, Director, Animal Husbandry and Clean Water Programs, USDA, Natural Resources Conservation Service, 5601 Sunnyside Avenue, Mail Stop 5473, Beltsville, Maryland 20705, FAX: (301) 504-2264.

USDA/Natural Resources and Environment and NRCS leadership will participate in each meeting.

Location | Date | Contact name | Phone
Woodland, California | July 11 | Rachel Lopez | (530) 792-5600
Austin, Texas | July 17 | Norman Bade | (254) 742-9800
Denver, Colorado | July 20 | John Andrews | (720) 544-2834
Raleigh, North Carolina | July 24 | Charlene Wood | (919) 873-2102
Frederick, Maryland | July 30 | Carol Hollingsworth | (443) 482-2902
Indianapolis, Indiana | July 31 | Paula Mulligan | (317) 290-3200

Please call the contact person of the meeting that you wish to attend to obtain specific meeting time and location details.

FOR FURTHER INFORMATION CONTACT: Questions or comments should be directed to Dawn Lamb, Office of the Deputy Chief for Programs, telephone: (202) 720-4527; fax: (202) 720-6559; email: dawn.lamb@usda.gov

Thomas W. Christensen,
Director, Animal Husbandry and Clean Water Programs, USDA/Natural Resources Conservation Service.

[FR Doc. 01-16625 Filed 7-2-01; 8:45 am]

BILLING CODE 3410-16-P